DEPARTMENT OF AGRICULTURE

Agricultural Research Service

Notice of Appointment of the Advisory Committee on Agricultural Biotechnology

AGENCY: Office of the Under Secretary, Research, Education, and Economics, USDA.

ACTION: Notification of Appointment of the Advisory Committee on Agricultural Biotechnology.

SUMMARY: The Office of the Under Secretary, Research, Education, and Economics of the Department of Agriculture, in accordance with the Federal Advisory Committee Act, 5 U.S.C. App. 2, announces members appointed to the Advisory Committee on Agricultural Biotechnology. Thirty-eight members were appointed from nominations of more than 220 well-qualified individuals, representing the biotechnology industry, conventional, sustainable, and organic farmers, food manufacturers, commodity processors and shippers, environmental and consumer groups, along with academic researchers as well as experts on consumer attitudes, bioethics, and legal issues. Equal opportunity practices were followed in appointing committee members. To assure that recommendations of the advisory committee take into account the needs of diverse groups served by the Department, membership includes, to the extent practicable, individuals with demonstrated ability to represent minorities, women, and persons with disabilities.

The following appointments to the Advisory Committee on Agricultural Biotechnology have been made:

Dennis E. Eckart will serve as Chair of the Committee. He is an attorney at Baker and Hostetler, LLP, in Washington, DC, and a former member of Congress from Ohio;

Dale E. Bauman, Liberty Hyde Bailey Professor and Professor of Nutritional Biochemistry in the Department of Animal Science and the Division of Nutritional Sciences at Cornell University in Ithaca, New York;

Daniel R. Botkin, Research Professor, Department of Ecology, Evolution and Marine Biology, University of California, in Santa Barbara, California;

Carolyn Brickey, Executive Director, National Campaign for Pesticide Policy Reform, in San Francisco, California, and member, National Organic Standards Board;

R. Jeffrey Burkhardt, Professor of Food and Resource Economics, Food and Resource Economics Department, University of Florida in Gainesville, Florida, and member, US/EU Committee on Ethics and Food Biotechnology;

R. James Cook, R. James Cook Endowed Chair in Wheat Research, Department of Plant Pathology, Washington State University, in Pullman, Washington;

James F. Dodson, Farmer and seed sales representative for Pioneer Hi-Bred International, Inc., in Robstown, Texas and Chairman, Environmental Task Force, National Cotton Council;

Linda J. Fisher, Vice President for Government and Public Affairs, Monsanto Company, in Washington, DC;

Carol T. Foreman, Distinguished Fellow and Director, the Food Policy Institute, Consumer Federation of America, in Chevy Chase, Maryland, and member, USDA Meat and Poultry Inspection Advisory Committee;

David J. Frederickson, President, Minnesota Farmers Union, in St. Paul, Minnesota;

Rebecca J. Goldburg, Senior Scientist, Environmental Defense Fund, in New York, New York;

Michael K. Hansen, Research Associate, Consumer Policy Institute, Consumers Union, in Yonkers, New York;

Neil E. Harl, Professor of Economics and Charles F. Curtiss Distinguished Professor in Agriculture, Iowa State University, in Ames, Iowa;

Thomas J. Hoban, Professor, Department of Sociology and Anthropology, North Carolina State University, in Raleigh, North Carolina;

Marjorie A. Hoy, Eminent Scholar and Davies, Fischer, and Eckes Professor of Biological Control, Department of Entomology and Nematology, University of Florida, in Gainesville, Florida;

Charles S. Johnson, Chairman, President and Chief Executive Officer, Pioneer Hi-Bred International, Inc., and member, USDA-Foreign Agricultural Service Emerging Market Committee, in Des Moines, Iowa;

Anne R. Kapuscinski, Professor and Extension Specialist, Department of Fisheries and Wildlife, University of Minnesota, in St. Paul, Minnesota;

Edward L. Korwek, Attorney at Hogan and Hartson, LLP, in Washington, DC;

Sharan A. Lanini, Farmer and Sales/Marketing Manager for Growers Transplanting, Inc./Rocket Farms, and member, California Department of Food and Agriculture Organic Food Act Advisory Committee, in Salinas, California;

Mark Lipson, Organic Farmer and Policy Program Director, Organic Farming Research Foundation, in Davenport, California;

Marshall A. Martin, Professor, Department of Agricultural Economics, Purdue University, in West Lafayette, Indiana, and member, National Agricultural Biotechnology Council;

Mary-Howell Martens, Organic Farmer and Adjunct Biology Instructor, Finger Lakes Community College, in Penn Yan, New York;

J. Calman McCastlain, Attorney at Pender, McCastlain, and Ptak, P.A., Farmer and Grain Elevator Operator, and Director, Arkansas Wheat Promotion Board, in Little Rock, Arkansas;

E. Bruce McEvoy, Chief Executive Officer, Seald Sweet Growers, Inc., in Vero Beach, Florida;

Margaret G. Mellon, Director, Agriculture and Biotechnology Program, Union of Concerned Scientists, in Washington, DC;

Lorraine D. Nakai, Entomologist and Farmer, Navajo Agricultural Products Industry, in Farmington, New Mexico;

Philip T. Nelson, Farmer, Chairman, Livestock and Dairy GRITS Committee, Illinois Farm Bureau, and Chairman, American Farm Bureau Federation Swine Advisory Committee, in Seneca, Illinois;

Carol Nottenburg, Attorney and Director of Intellectual Property and Principal Scientist, Center for the Application of Molecular Biology to International Agriculture, in Red Hill, Australia;

Roger C. Pine, Farmer and President, National Corn Growers Association, in Lawrence, Kansas;

Channapatna S. Prakash, Professor of Plant Molecular Genetics, College of Agriculture, Tuskegee University, in Auburn, Alabama, and member of the U.S. Sweetpotato Crop Advisory Committee;

Frank L. Sims, President, North American Grain, Cargill, Inc., in Minnetonka, Minnesota, and member, Chicago Board of Trade;

J. Michael Sligh, Director for Sustainable Agriculture, Rural Advancement Foundation International—U.S.A., in Chapel Hill, North Carolina;

Jerome B. Slocum, Farmer and President, North Mississippi Grain Company, in Biloxi, Mississippi;

Austin P. Sullivan, Jr., Senior Vice President for Corporate Relations, General Mills, Inc., in Plymouth, Minnesota, and Chairman, Biotechnology Task Force, Grocery Manufacturers of America;

Virginia V. Weldon, Physician and Director, Center for the Study of American Business, Washington University, in St. Louis, Missouri, and member, President's Committee of Advisors on Science and Technology;

David M. Winkles, Jr., Farmer and President, South Carolina Farm Bureau, in Sumter, South Carolina, and member, United Soybean Board;

Margaret M. Wittenberg, Vice-President of Government and Public Affairs, Whole Foods Market, Inc., in Dripping Springs, Texas, and member, National Organic Standards Board;

Michael W. Yost, Farmer and President, American Soybean Association, in Murdock, Minnesota.

Committee members will serve two-year terms. In the event of a vacancy, the Secretary will appoint a new member as appropriate and subject to the provisions of the Federal Advisory Committee Act. The duties of the Committee are solely advisory. The Committee will advise the Secretary of Agriculture on a broad array of issues related to the expanding dimensions of agricultural biotechnology. These issues may include: effects of industry concentration and consolidation on farmers and consumers; effects of changing intellectual property right status of agricultural materials on farmers; ways to maximize or encourage potential benefits of biotechnology and minimize potential adverse effects in different sectors of the agricultural economy; guidance on priorities and resource allocations for research, and for other activities to help the functioning of the agricultural marketplace; recommendations for scientific studies that might be conducted by the new USDA-sponsored Standing Committee on Biotechnology at the National Research Council; ways to improve public understanding and input into USDA's regulatory process; and USDA's role in assuring that farmers have an array of choices for future agricultural technology and practices.

The Committee will advise the Secretary through an annual report and other means as necessary and appropriate.

The Committee will meet in Washington, DC, up to four (4) times per year.

Committee members will serve without pay. Reimbursement of travel expenses and per diem costs shall be made to Committee members who would be unable to attend Committee meetings without such reimbursement.

FOR FURTHER INFORMATION CONTACT: Questions should be e-mailed to michael.g.schechtman@usda.gov, faxed to 202-690-4265, or telephoned to Michael Schechtman, 202-720-3817; all mailed correspondence should be sent to Michael Schechtman, Designated Federal Official, Office of the Deputy Secretary, USDA, 202B Jamie L. Whitten Federal Building, 14th and Independence Avenue, SW, Washington, DC 20250.

Dated: January 21, 2000.
I. Miley Gonzalez,
Under Secretary, Reserach, Education, and Economics.

[FR Doc. 00-2570 Filed 2-3-00; 8:45 am]

BILLING CODE 3410-01-P